ENVIRONMENTAL PROTECTION AGENCY

[EPA-HQ-OAR-2021-0084; FRL-13208-01-OMS]

Agency Information Collection Activities; Submission to the Office of Management and Budget for Review and Approval; Comment Request; NESHAP for Mercury (Renewal)

AGENCY: Environmental Protection Agency (EPA).

ACTION: Notice.

SUMMARY: The Environmental Protection Agency (EPA) has submitted an information collection request (ICR), NESHAP for Mercury (EPA ICR Number 0113.15, OMB Control Number 2060-0097) to the Office of Management and Budget (OMB) for review and approval in accordance with the Paperwork Reduction Act. This is a proposed extension of the ICR, which is currently approved through January 31, 2026. Public comments were previously requested via the Federal Register on August 6, 2024 during a 60-day comment period. This notice allows for an additional 30 days for public comments.

DATES: Comments may be submitted on or before March 2, 2026.

ADDRESSES: Submit your comments, referencing Docket ID Number EPA-HQ-OAR-2021-0084, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Titel, Aiden, Sector Policies and Program Division (D243-05), Office of Air Quality Planning and Standards, U.S. Environmental Protection Agency, Research Triangle Park, North Carolina 27711; telephone number: (919) 541-4836; email address: titel.aiden@epa.gov.

SUPPLEMENTARY INFORMATION: This is a proposed extension of the ICR, which is currently approved through January 31, 2026. An agency may not conduct or sponsor and a person is not required to respond to a collection of information unless it displays a currently valid OMB control number.

Public comments were previously requested via the Federal Register on August 6, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Emission Standards for Hazardous Air Pollutants (NESHAP) for Mercury (40 CFR part 61, subpart E) apply to existing facilities and new facilities which process mercury ore to recover mercury, use mercury chlor-alkali cells to produce chlorine gas and alkali metal hydroxide, and incinerate or dry wastewater treatment plant sludge. New facilities include those that commenced construction, modification or reconstruction after the date of proposal. This information is being collected to assure compliance with 40 CFR part 61, subpart E. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Mercury ore processing facilities, sludge incineration plants, and sludge drying plants.

Respondent's obligation to respond: Mandatory (40 CFR part 61, subpart E).

Estimated number of respondents: 100 (total).

Frequency of response: Initially, annually, semiannually.

Total estimated burden: 16,500 hours (per year). Burden is defined at 5 CFR 1320.03(b).

Total estimated cost: $2,260,000 (per year which includes no annualized capital or operation & maintenance costs.

Changes in the Estimates: The decrease in burden from the most recently approved ICR is due to an adjustment(s). The adjustment decrease in burden from the most recently approved ICR for new and existing facilities is due primarily to a program change in a very similar Part 63 regulation for Mercury Cell Chlor-Alkali plants. Beginning on May 6, 2025, any amount of mercury emissions from mercury cell chlor-alkali plants are prohibited pursuant to 40 CFR part 63, subpart IIIII. It is assumed that the single mercury cell chlor-alkali facility will either convert its one mercury cell unit to a non-mercury technology (its other units are already using non-mercury technology) or close that mercury cell unit and thereafter rely solely on its other non-mercury units for chlorine production (87 FR 27002). As such, the one mercury cell chlor-alkali plant that was accounted for in the most recently approved ICR is not expected to be in operation.

Courtney Kerwin,
Deputy Director, Data and Enterprise Programs Division.

[FR Doc. 2026-01736 Filed 1-28-26; 8:45 am]

BILLING CODE 6560-50-P